DEPARTMENT OF AGRICULTURE

Forest Service

White River National Forest; Eagle County, CO; Vail Mountain Recreation Enhancements Projects EIS

AGENCY: Forest Service, USDA.

ACTION: Notice of intent to prepare an environmental impact statement.

SUMMARY: Vail Mountain Ski Resort (Vail) recently submitted a proposal to the White River National Forest (WRNF) for new and enhanced activities within its Forest Service-administered Special Use Permit (SUP) area. The WRNF has accepted this proposal, and is initiating a National Environmental Policy Act (NEPA) analysis to document and disclose potential impacts. The Proposed Action—the Vail Mountain Recreation Enhancements Project—is built on the goal of fostering enhanced opportunities for, and appreciation of, natural resource-based recreation on public lands administered by the WRNF. The proposed projects are designed to take advantage of existing lift and guest service infrastructure across Vail's SUP area and proposed non-ski-based activities are designed to suit a wide range of visitors to the WRNF and the Vail Valley.

DATES: Comments concerning the scope of the analysis must be received by December 26, 2012. The draft environmental impact statement is expected to be available for public review in August or September 2013 and the final environmental impact statement is expected in the winter of 2013/14.

ADDRESSES: Comments may be submitted online at www.vailreceis.info. Send written comments to: Scott Fitzwilliams, Forest Supervisor, c/o Don Dressler, Winter Sports Administrator, White River National Forest, P.O. Box 190, Minturn, CO 81645; FAX (970) 945-9343 or by email to: comment@vailreceis.info (include “Vail Recreation Enhancements Project EIS” in the subject line). Additional details of the Proposed Action, figures, the EIS scoping process, how to comment electronically, and the overall NEPA process can be viewed at www.vailreceis.info.

FOR FURTHER INFORMATION CONTACT: Additional information related to the proposed project can be obtained from: Don Dressler, Winter Sports Administrator, Eagle/Holy Cross Ranger District, 24747 U.S. Highway 24, P.O. Box 190, Minturn, Colorado 81645. Mr. Dressler can be reached by phone at (970) 827-5157 or by email at drdressler@fs.fed.us. Individuals who use telecommunication devices for the deaf (TDD) may call the Federal Information Relay Service (FIRS) at 1-800-877-8339 between 8 a.m. and 8 p.m., Eastern Time, Monday through Friday.

SUPPLEMENTARY INFORMATION: Purpose and Need for Action: In November 2011, the National Forest Ski Area Permit Act of 1986 was amended to clarify the authority of the Secretary of Agriculture regarding additional recreational uses of NFS land that is subject to ski area permits, and for other purposes. The Proposed Action was designed in response to the Ski Area Recreational Opportunity Enhancement Act of 2011 (the 2011 Act) which encourages outdoor recreation and enjoyment of nature, harmony with the natural environment, and requires (to the extent practical) that activities shall be located within the developed portions of ski areas.

As a recreation-based economy, the Vail Valley both relies on, and attracts, large numbers of visitors throughout the year, most of which—either knowingly or unknowingly—come to recreate on public lands. These visitors can be broadly placed into two types: (1) Those who are likely to engage in dispersed recreational activities (i.e., hiking, biking and camping); and (2) those who seek more organized, controlled activities. The need for specialized knowledge, equipment, skills and familiarity with the mountain environment can be a significant barrier for some visitors to engage in outdoor activities. Vail's customer surveys indicate that visitors to the Valley are consistently seeking a more diverse range of recreational activities, particularly for families, children and the aging, but extending to people seeking more adventurous activities. This extends to both non-skiing and after-skiing activities, as well as an enhanced variety of activities in the non-winter months.

The Need for Action is to respond to Vail's proposal to implement activities consistent with the Ski Area Recreational Opportunity Enhancement Act of 2011. Based on the aforementioned information, the Purpose of Action is to:

1. Provide new and innovative forms of year-round, outdoor recreation on NFS land for visitors to the Vail Valley.

2. Utilize existing lift and guest service infrastructure throughout Vail's SUP area to support new recreational activities.

3. Capitalize on the relationship between the WRNF and Vail Resorts to connect people with the natural environment and enhance understanding and appreciation of the purpose and value of public lands.

Proposed Action: The Proposed Action includes the 13 elements, identified below. A full description of each element can be found at: www.vailreceis.info.

• Educational Opportunities and Interpretive Information

• Game Creek Canopy Tour

• Front Side Canopy Tour

• Adventure Ridge Forest Flyer

• Pride Express Forest Flyer

• Rappel Activity at Adventure Ridge

• Expanded Hiking and Mountain Bike Trails

• Riparian Experience at Adventure Ridge

• Family Forest Park at Adventure Ridge

• Modified Horse Trail in Game Creek Bowl

• Observation Decks and Towers at Adventure Ridge and Wildwood

• Reconfigured Talon's Deck and Barbeque Area at Eagles Nest

• Wedding Deck at The 10th

As a whole and individually, proposed projects have been designed to harmonize with, and benefit from, the natural setting of the NFS lands within Vail's existing Forest Service-administered SUP area. They are designed to both complement and improve the existing non-skiing recreational opportunities that are currently offered on NFS lands at Vail Mountain. All of the proposed projects rely on the Alpine forest setting on NFS lands within the Vail SUP, either because of the natural surroundings (such as the forest canopy) or because of the natural conditions (such as topography and vertical relief).

Due to engineering, planning and resource considerations, the WRNF and Vail are in the process of finalizing many of the proposed project locations and specifics across the project area. While some proposed project locations are considered accurate at this time (e.g., observation decks and the wedding deck), others are more conceptual, and will be further refined in the coming months as site-specific mapping and updated engineering/planning/design data is considered (e.g., Forest Flyers and canopy tours). Finally, while the conceptual areas and extents of proposed hiking and mountain bike trails have been identified across Vail Mountain, the precise locations of any approved trails would be determined on a case-by-case basis (in coordination with Forest Service specialists, as appropriate) to arrive at a design that is both functional and minimizes/eliminates resource impacts.

Responsible Official: The Responsible Official is Scott Fitzwilliams, Forest Supervisor for the WRNF.

Nature of Decision To Be Made: Based on the analysis that will be documented in the forthcoming EIS, the Responsible Official will decide whether or not to implement, in whole or in part, the Proposed Action or another alternative that may be developed by the Forest Service as a result of scoping.

Scoping Process: This notice of intent initiates the scoping process, which guides the development of the environmental impact statement. The Forest Service is soliciting comments from Federal, State and local agencies and other individuals or organizations that may be interested in or affected by implementation of the proposed projects. Public questions and comments regarding this proposal are an integral part of this environmental analysis process. Input provided by interested and/or affected individuals, organizations and governmental agencies will be used to identify resource issues that will be analyzed in the environmental impact statement. The Forest Service will identify significant issues raised during the scoping process, and use them to formulate alternatives, prescribe mitigation measures and project design features, or analyze environmental effects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: November 13, 2012.
David Neely,
District Ranger.

[FR Doc. 2012-28202 Filed 11-23-12; 8:45 am]

BILLING CODE 3410-11-M